DEPARTMENT OF THE TREASURY

President's Commission on the United States Postal Service

AGENCY: Department of the Treasury, Departmental Offices.

ACTION: Notice of meeting.

SUMMARY: Notice is given of a meeting of the President's Commission on the United States Postal Service.

DATES: The meeting will be held on Wednesday, May 28, 2003, from approximately 2 p.m. to 5 p.m. e.s.t.

ADDRESSES: The meeting will be held in Room 216 of the Hart Senate Office Building, 2nd and C Streets, NE., Washington, DC 20510.

FOR FURTHER INFORMATION CONTACT: Roger Kodat, Designated Federal Official, 202-622-7073.

SUPPLEMENTARY INFORMATION: At the public meeting, the Commission will continue its examination of the issues outlined in Executive Order 13278. Witnesses will testify at the invitation of the Commission. Seating is limited.

Dated: May 12, 2003.
Roger Kodat,
Designated Federal Official.

[FR Doc. 03-12222 Filed 5-13-03; 11:16 am]

BILLING CODE 4811-16-P